DEPARTMENT OF HEALTH AND HUMAN SERVICES

Office of the Secretary

[Document Identifier: OS-0990-New-60D]

Agency Information Collection Activities; Proposed Collection; Public Comment Request

AGENCY: Office of the Secretary, HHS.

ACTION: Notice.

SUMMARY: In compliance with section 3506(c)(2)(A) of the Paperwork Reduction Act of 1995, the Office of the Secretary (OS), Department of Health and Human Services, announces plans to submit a new Information Collection Request (ICR), described below, to the Office of Management and Budget (OMB). Prior to submitting the ICR to OMB, OS seeks comments from the public regarding the burden estimate below or any other aspect of the ICR.

DATES: Comments on the ICR must be received on or before February 7, 2017.

ADDRESSES: Submit your comments to Information.CollectionClearance@hhs.gov or by calling (202) 690-5683.

SUPPLEMENTARY INFORMATION: When submitting comments or requesting information, please include the document identifier OS-0990-New-60D for reference.

Information Collection Request Title: A Client-Centered Performance Measure for Contraceptive Services.

Abstract: The Office of the Assistant Secretary for Health/Office of Population Affairs is seeking an approval by the Office of Management and Budget on a new information collection. We propose to evaluate a scale previously developed by our collaborators at the University of California San Francisco (UCSF)—the 11-item Interpersonal Quality of Family Planning Care (IQFP) scale—among 3,000 female family planning clients. Initially informed by qualitative work around women's preferences for contraceptive counseling, the IQFP scale has already been shown to be a valid and reliable scale in research settings but its use as a performance measure hasn't yet been evaluated. Family planning providers will also complete a short survey about provider characteristics (approximately 80 providers) and clinic demographics (approximately 10 clinics).

Need and Proposed Use of the Information: The proposed use of the information to be collected is to develop a patient-reported outcome performance measure (PRO-PM) on contraceptive counseling and assess its validity, reliability, feasibility, usability, and use. If we find that this measure has adequately met these criteria, UCSF and the Office of Population Affairs (OPA) will prepare it for submission to the National Quality Forum (NQF) for use in a variety of clinical settings where family planning care is provided. Measurement of the quality of contraceptive counseling can be used as part of quality improvement activities to increase awareness and use of client-centered counseling approaches. By improving client-centered services, women can choose the contraceptive method that works best for them, which can lead to reductions in rates of unintended pregnancy and other adverse reproductive outcomes.

Likely Respondents: Family planning providers and their patients.

Total Estimated Annualized Burden—Hours
Form name | Number of respondents | Number of responses per respondent | Average burden per response (in hours) | Total burden hours
Survey for provider characteristics | 27 | 1 | 5/60 | 2.25
Survey for clinic characteristics | 3 | 1 | 20/60 | 1
Contraceptive counseling survey | 1,000 | 1 | 10/60 | 166.67
Total |  |  |  | 169.92

OS specifically requests comments on (1) the necessity and utility of the proposed information collection for the proper performance of the agency's functions, (2) the accuracy of the estimated burden, (3) ways to enhance the quality, utility, and clarity of the information to be collected, and (4) the use of automated collection techniques or other forms of information technology to minimize the information collection burden.

Terry S. Clark,
Asst. Information Collection Clearance Officer.

[FR Doc. 2016-29452 Filed 12-8-16; 8:45 am]

BILLING CODE 4150-28-P